DEPARTMENT OF ENERGY

Federal Energy Regulatory Commission

[Docket No. RP02-13-005>

Portland Natural Gas Transmission System: Notice of Compliance Filing

November 15, 2002.

Take notice that on November 12, 2002, Portland Natural Gas Transmission System (PNGTS) tendered for filing as part of its FERC Gas Tariff, Original Volume No. 1, to become effective on November 12, 2002:

3rd Rev. Sheet 100

1st Rev. Sheet 201

1st Rev. Original Sheet 302

1st Rev. Original Sheet 303

1st Rev. Original Sheet 304

1st Rev. Original Sheet 305

1st Rev. Original Sheet 306

1st Rev. Original Sheet 307

1st Rev. Sheet 504

1st Rev. Sheet 510

1st Rev. Sheet 511

PNGTS asserts that the purpose of its filing is to comply with the Commission's order issued on October 10, 2002 in Docket No. RP02-13-001. That order required PNGTS to modify its tariff to ensure that its long-term firm seasonal service is available on a nondiscriminatory basis.

PNGTS states that copies of this filing are being served on all jurisdictional customers, applicable state commissions, and participants in Docket No. RP02-13-000.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-29722 Filed 11-20-02; 8:45 am]

BILLING CODE 6717-01-P